DEPARTMENT OF LABOR

Bureau of Labor Statistics

Bureau of Labor Statistics Technical Advisory Committee; Notice of Meeting and Agenda

The Bureau of Labor Statistics Technical Advisory Committee will meet on Friday, November 21, 2014. The meeting will be held in the Postal Square Building, 2 Massachusetts Avenue NE., Washington, DC.

The Committee provides advice and makes recommendations to the Bureau of Labor Statistics (BLS) on technical aspects of the collection and formulation of economic measures. The BLS presents issues and then draws on the expertise of Committee members representing specialized fields within the academic disciplines of economics, statistics and survey design.

The meeting will be held in rooms 1 and 2 of the Postal Square Building Conference Center. The schedule and agenda for the meeting are as follows:

8:30 a.m. Commissioner's welcome and review of agency developments

9:00 a.m. Adjusting Major Sector Productivity Industry Multifactor Productivity to Account for Changes in the Composition of Labor

10:45 a.m. Updates on topics from past committee meetings:

• Survey of Occupational Injuries and Illnesses (SOII) Undercount

• How to Take Account of Internet Job Search in Measuring Unemployment in the Current Population Survey (CPS)

1:30 p.m. Discussion of future priorities

2:00 p.m. Occupational Employment Statistics (OES) Redesign: Sampling and Estimation

4:00 p.m. Approximate conclusion

The meeting is open to the public. Any questions concerning the meeting should be directed to Lisa Fieldhouse, Bureau of Labor Statistics Technical Advisory Committee, on 202-691-5025. Individuals who require special accommodations should contact Ms. Fieldhouse at least two days prior to the meeting date.

Signed at Washington, DC, this 16th day of October 2014.
Eric P. Molina,
Acting Chief, Division of Management Systems, Bureau of Labor Statistics.

[FR Doc. 2014-25058 Filed 10-21-14; 8:45 am]

BILLING CODE 4510-24-P